DEPARTMENT OF THE INTERIOR

National Park Service

Notice of Inventory Completion: Texas Archeological Research Laboratory, The University of Texas at Austin, Austin, TX

AGENCY: National Park Service, Interior.

ACTION: Notice.

Notice is here given in accordance with the Native American Graves Protection and Repatriation Act, 25 U.S.C. 3003, of the completion of the inventory of human remains in the possession of the Texas Archeological Research Laboratory, The University of Texas at Austin, Austin, TX. The human remains were removed from the Spiro site, 41LF42, LeFlore County, OK.

This notice is published as part of the National Park Service's administrative responsibilities under NAGPRA, 25 U.S.C. 3003 (d) (3). The determinations in this notice are the sole responsibility of the museum, institution, or Federal agency that has control of the Native American human remains. The National Park Service is not responsible for the determinations in this notice.

A detailed assessment of the human remains was made by the Texas Archeological Research Laboratory, The University of Texas at Austin professional staff and representatives of the Caddo Nation of Oklahoma and Wichita and Affiliated Tribes (Wichita, Keechi, Waco & Tawakonie), Oklahoma.

At an unknown date, human remains representing a minimum of one individual were removed from Craig Mound at the Spiro Site, 41LF42, LeFlore County, OK. The date and circumstances surrounding the removal is unknown, but probably relate to the looting of the site that was occurring at the time. In 1936, the human remains were donated to the Texas Memorial Museum at The University of Texas at Austin by W.A. Rikard. At an unknown date, the human remains were transferred to the collections at the Texas Archeological Research Laboratory. No known individual was identified. No associated funerary objects are present.

It is believed by many archeologists that the Caddo and Wichita were both culturally descended from the Spiro peoples. The site is located within an area archeologically and ethnographically considered to have been occupied by a group ancestral to both the Caddo and Wichita. Based upon geographical, biological, archeological, historic evidence, and expert opinion, officials of the Texas Archeological Research Laboratory reasonably believe the Caddo and Wichita are culturally affiliated with the human remains. Descendants of the Caddo are members of the Caddo Nation of Oklahoma. Descendants of the Wichita are members of the Wichita and Affiliated Tribes, Oklahoma.

Officials of the Texas Archeological Research Laboratory have determined that, pursuant to 25 U.S.C. 3001 (9-10), the human remains described above represent the physical remains of one individual of Native American ancestry. Officials of the Texas Archeological Research Laboratory also have determined that, pursuant to 25 U.S.C. 3001 (2), there is a relationship of shared group identity that can be reasonably traced between the Native American human remains and the Caddo Nation of Oklahoma and Wichita and Affiliated Tribes, Oklahoma.

Representatives of any other Indian tribe that believes itself to be culturally affiliated with the human remains should contact Dr. Darrell Creel, Director, Texas Archeological Research Laboratory, The University of Texas at Austin, 1 University Station R7500, Austin, TX 78712-0714, telephone (512) 471-6007, before June 30, 2008. Repatriation of the human remains to the Caddo Nation of Oklahoma and Wichita and Affiliated Tribes, Oklahoma may proceed after that date if no additional claimants come forward.

The Texas Archeological Research Laboratory is responsible for notifying the Caddo Nation of Oklahoma and Wichita and Affiliated Tribes, Oklahoma that this notice has been published.

Dated: March 31, 2008
Sherry Hutt,
Manager, National NAGPRA Program.

[FR Doc. E8-11990 Filed 5-28-08; 8:45 am]

BILLING CODE 4312-50-S